DEPARTMENT OF DEFENSE

Department of the Navy

[Docket ID: USN-2010-0023]

Proposed Collection; Comment Request

AGENCY: Department of the Navy, DoD.

ACTION: Notice.

SUMMARY: In compliance with the requirement of section 3506(c)(2)(A) of the Paperwork Reduction Act of 1995 the Naval Health Research Center (NHRC), Department of the Navy, announces a proposed extension of a public information collection and seeks public comment on the provisions thereof.

Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by August 31, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Dr. Jerry Larson, Ph.D.; Head, Behavioral Science and Epidemiology Program, Naval Health Research Center; P. O. Box 85122, San Diego, CA 92186-5122; telephone 619-553-8402 (this is not a toll-free number) or fax: 619-553-8459.

Title and OMB Number: Mental Health Issues among Separating Marines; OMB Number 0703-0056.

Needs and Uses: Tens of thousands of Marines transition from the military to civilian life each year, the majority of whom have been exposed to deployment stressors that have put them at high risk for stress-related disorders. This longitudinal study builds on a 2008 pilot study assessing the prevalence of mental health outcomes among Sailors and Marines transitioning from the Service, and identifying predictors of and changes in mental health and resilience over time. For the baseline component of the current study, a paper-and-pencil questionnaire was administered to approximately 2,700 active-duty Marines in the Transition Assistance Program (TAP) during routine mandatory separation counseling via group administration at 6 selected installations worldwide. Based on the estimated number of attendees per TAP class and the number of classes conducted during the 4-month data collection period (January-April 2010), we estimate that approximately 4,900 Marines were eligible for inclusion into the study, giving us an approximate 55 percent response rate. The baseline survey included selected items from the post-deployment health reassessment (PDHRA), along with additional questions on risk factors for poor civilian readjustment, and other biographical and psychological content. DoD regulations stipulate that all military personnel must receive pre-separation counseling no less than 90 days before leaving active duty.

NHRC proposes tracking over time the mental well-being of eligible baseline respondents for the longitudinal portion of the study through a follow-on survey 3 to 6 months after separation from military service, after they have completed the transition from military to civilian life. Data from extant historical personnel and medical files will also be combined with survey data to develop models that demonstrate the influence of combat, and a variety of covariates, on mental health symptoms, resilience, and substance abuse. We estimate that approximately 1,850 of the 2,700 baseline participants will be eligible for and consent to participate in the follow-up survey. In order to facilitate locating these respondents, the baseline questionnaire requested participants provide name, relocation plans, names and contact information for two friends or relatives who always know where the respondent is living, and the respondent's date of birth and social security number. The follow-up survey will be sent to respondents through the mail. Respondents will also have the option of completing this survey via the Web, which will closely simulate the hardcopy version of the instrument.

Affected Public: Marine Corps personnel who have separated from the Military in the six-month period following the baseline survey.

Annual Burden Hours: 1,850.

Number of Respondents: 1,850.

Responses per Respondent: 1.

Average Burden per Response: 1 hour.

Frequency: One time.

SUPPLEMENTARY INFORMATION:

Summary of Information Collection

This study population is unique because there is a need for longitudinal mental health research in the Military that spans both Active Duty and the period of reintegration into civilian life after combat exposure. Given that disability and poor physical health were significant predictors of mental health problems in the pilot study, that stigma continues to be an issue for military personnel seeking mental health care, and that significant difficulties remain in transitioning mental health care, this type of program would appear especially appropriate and suited for implementation in the U.S. military.

The follow-up survey will consist of a mailed paper-and-pencil questionnaire with the option of completing the questionnaire via the Web. All participants from the baseline survey who have separated from military service since completion of the baseline survey will be eligible for the second phase of study and their participation in the follow-up survey will be requested. Respondents were informed during the Introductory Briefing to the baseline survey that they may be contacted for a follow-up interview.

Approximately 15 percent of Military personnel are women. Therefore, it is estimated that 15 percent will be the proportion of women completing the survey; the remaining 85 percent will be male respondents.

Dated: June 28, 2010.
Mitchell S. Bryman,
Alternate OSD Federal Register Liaison Officer, Department of Defense.

[FR Doc. 2010-16089 Filed 7-1-10; 8:45 am]

BILLING CODE 5001-06-P